DEPARTMENT OF STATE

[Public Notice 6112]

Shipping Coordinating Committee; Notice of Meetings

Three subcommittees of the Shipping Coordinating Committee (SHC) will be holding public meetings in April 2008. Members of the public may attend these meetings up to the seating capacity of the rooms. Details for each meeting are provided in this notice.

I. Ship Design and Equipment

The SHC's Subcommittee on Ship Design and Equipment will conduct an open meeting at 9:30 a.m. on Friday, April 25, 2008, in Room 6103 of the United States Coast Guard (USCG) Headquarters Building, 2100 2nd Street, SW., Washington, DC, 20593. The primary purpose of the meeting is to present the outcome of the 51st Session of the International Maritime Organization (IMO) Sub-Committee on Ship Design and Equipment (DE) which was held February 18-22, 2008 in Bonn, Germany. For a list of the issues discussed at DE 51, see Shipping Coordinating Committee; Notice of Meetings, 73 FR 1394 (January 8, 2008). Preparations for the 52nd Session of DE will also be discussed. DE 52 is scheduled to be held at the IMO Headquarters in London, United Kingdom from March 16 to March 20, 2009.

Copies of documents associated with DE 51 will be available at the April 25th SHC meeting. To request further copies of documents please write to the address provided below. Interested persons may also seek information by writing to Mr. Wayne Lundy, Commandant (CG-5213), USCG Headquarters, 2100 Second Street, SW., Room 1300, Washington, DC 20593-0001 or by calling (202) 372-1379.

II. Safety of Life at Sea; IMO Maritime Safety Committee

The SHC's Subcommittee on Safety of Life at Sea will conduct an open meeting at 9:30 a.m. on Wednesday, April 30, 2008 in Room 2415, at USCG Headquarters, 2100 2nd Street, SW., Washington, DC, 20593. The purpose of this meeting will be to finalize preparations for the 84th Session of the IMO Maritime Safety Committee (MSC) which is scheduled for May 7 to May 16, 2008 in London, United Kingdom. At the April 30th SHC meeting, papers received and the draft U.S. positions for MSC 84 will be discussed. MSC 84 agenda items include:

—Adoption of amendments to mandatory instruments;

—Measures to enhance maritime security;

—Goal-based new ship construction standards;

—Long range identification and tracking (LRIT) related matters;

— General cargo ship safety;

—Role of the human element;

—Formal safety assessment;

— Piracy and armed robbery against ships; and

—Reports of six IMO Sub-committees: Dangerous Goods, Solid Cargoes and Containers (DSC); Training and Watchkeeping (STW); Fire Protection (FP); Ship Design and Equipment (DE); Bulk Liquids and Gases (BLG); and Safety of Navigation (NAV).

Interested persons may seek additional information by writing to LCDR Jason Smith, Commandant (CG-5212), USCG Headquarters, 2100 Second Street, SW., Room 1218, Washington, DC 20593-0001 or by calling (202) 372-1376.

III. Stability, Load Lines and Fishing Vessel Safety

The SHC's Subcommittee on Stability, Load Lines and Fishing Vessel Safety will conduct an open meeting at 1:30 p.m. on Wednesday, April 30, 2008, in Room 6103 of the USCG Headquarters Building, 2100 2nd Street, SW., Washington, DC, 20593. The primary purpose of the meeting is to prepare for the 51st Session of the IMO Sub-Committee on Stability and Load Lines and Fishing Vessels Safety (SLF) to be held at IMO Headquarters in London, United Kingdom from July 14 to July 18, 2008. The primary matters to be considered include:

—Development of explanatory notes for harmonized SOLAS Chapter II-1;

—Revision of the Intact Stability Code;

—Safety of small fishing vessels;

—Development of options to improve effect on ship design and safety of the International Convention on Tonnage Measurement, 1969;

—Review of guidelines for uniform operating limitations on high-speed craft;

—Time-dependent survivability of passenger ships in damaged condition;

—Guidance on the impact of open watertight doors on existing and new ship survivability;

— Stability and seakeeping characteristics of damaged passenger ships in a seaway when returning to port by own power or under tow;

—Guidelines for drainage systems on ro-ro decks; and

—Damage stability verification of tank vessels and bulk carriers.

Interested persons may seek additional information by writing to Mr. Paul Cojeen, Commandant (CG-5212), USCG Headquarters, 2100 Second Street, SW., Room 1308, Washington, DC 20593-0001 or by calling (202) 372-1372.

Dated: April 1, 2008.
Mark Skolnicki,
Executive Secretary, Shipping Coordinating Committee, Department of State.

[FR Doc. E8-7216 Filed 4-4-08; 8:45 am]

BILLING CODE 4710-09-P